DEPARTMENT OF COMMERCE

National Oceanic and Atmospheric Administration

RIN 0648-XG951

Marine Fisheries Advisory Committee Meeting

AGENCY: National Marine Fisheries Service (NMFS), National Oceanic and Atmospheric Administration (NOAA), Commerce.

ACTION: Notice of open public meeting.

SUMMARY: This notice sets forth the proposed schedule and agenda of a forthcoming meeting of the Marine Fisheries Advisory Committee (MAFAC). The members will discuss and provide advice on issues outlined under SUPPLEMENTARY INFORMATION below.

DATES: The meeting will be held April 30, 2019, from 8:30 a.m. to 5 p.m., May 1, from 8:30-2:30 p.m., and May 2, from 9 a.m. to 1 p.m.

ADDRESSES: The meeting will be held at the AC Hotel Portland Downtown Waterfront, 158 Fore Street, Portland, ME 04101; 207-747-1640.

FOR FURTHER INFORMATION CONTACT: Heidi Lovett, MAFAC Assistant Director; 301-427-8034; email: Heidi.Lovett@noaa.gov.

SUPPLEMENTARY INFORMATION: As required by section 10(a)(2) of the Federal Advisory Committee Act, 5 U.S.C. App. 2, notice is hereby given of a meeting of MAFAC. The MAFAC was established by the Secretary of Commerce (Secretary), and, since 1971, advises the Secretary on all living marine resource matters that are the responsibility of the Department of Commerce. The complete charter and summaries of prior meetings are located online at https://www.fisheries.noaa.gov/topic/partners#marine-fisheries-advisory-committee-.

Matters To Be Considered

This meeting time and agenda are subject to change.

The meeting is convened to hear presentations and updates and to discuss policies and guidance on the following topics: Columbia Basin Partnership Task Force provisional goals to conserve and restore salmon and steelhead; U.S. seafood marketing, promotion, and competitiveness; strategic aquaculture science plan; wind development in the marine environment; legislative outlook and implementation of new legislation; and budget outlook. MAFAC will discuss various administrative and organizational matters, and meetings of subcommittees and working groups may be convened.

Special Accommodations

The meeting is physically accessible to people with disabilities. Requests for sign language interpretation or other auxiliary aids should be directed to Heidi Lovett; 301-427-8034 by April 19, 2019.

Dated: April 9, 2018.
Jennifer L. Lukens,
Federal Program Officer, Marine Fisheries Advisory Committee, National Marine Fisheries Service.

[FR Doc. 2019-07339 Filed 4-11-19; 8:45 am]

BILLING CODE 3510-22-P